DEPARTMENT OF COMMERCE

Foreign-Trade Zones Board

[Order No. 2055]

Reorganization of Foreign-Trade Zone 157 Under Alternative Site Framework; Casper, Wyoming

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Casper/Natrona County International Airport, grantee of Foreign-Trade Zone 157, submitted an application to the Board (FTZ Docket B-8-2017, docketed January 17, 2017) for authority to reorganize under the ASF with a service area that includes a portion of Natrona County, Wyoming, and FTZ 157's existing Sites 1 and 2 would be categorized as magnet sites;

Whereas, notice inviting public comment was given in the Federal Register (82 FR 8506-8507, January 26, 2017) and the application has been processed pursuant to the FTZ Act and the Board's regulations; and,

Whereas, the Board adopts the findings and recommendations of the examiner's report, and finds that the requirements of the FTZ Act and the Board's regulations are satisfied;

Now, therefore, the Board hereby orders:

The application to reorganize FTZ 157 under the ASF is approved, subject to the FTZ Act and the Board's regulations, including Section 400.13, to the Board's standard 2,000-acre activation limit for the zone, and to an ASF sunset provision for magnet sites that would terminate authority for Site 2 if not activated within five years from the month of approval.

Dated: July 5, 2018.
Gary Taverman,
Deputy Assistant Secretary for Antidumping and Countervailing Duty Operations, performing the non-exclusive functions and duties of the Assistant Secretary for Enforcement and Compliance Alternate Chairman, Foreign-Trade Zones Board.

[FR Doc. 2018-14822 Filed 7-10-18; 8:45 am]

BILLING CODE 3510-DS-P